DEPARTMENT OF DEFENSE

Office of the Secretary

Open Meeting Notice

AGENCY: Department of Defense Education Activity (DoDEA), DoD.

ACTION: Open Meeting Notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

1. Name of Committee: Advisory Council on Dependents' Education.

2. Date: Friday, May 2, 2008.

3. Time: 8 a.m. to 5 p.m. Japan Standard Time.

4. Location: New Sanno Hotel, 4-12-20 Minami-Azabu, Minato-ku, Tokyo 106-0047, Japan.

5. Purpose of the Meeting: Recommend to the Director, DoDEA, general policies for the operation of the Department of Defense Dependents Schools (DoDDS); to provide the Director with information about effective educational programs and practices that should be considered by DoDDS; and to perform other tasks as may be required by the Secretary of Defense.

6. Agenda: The meeting agenda will be the current operational qualities of schools and the institutionalized school improvement processes, as well as other educational matters.

7. Public's Accessibility to the Meeting: Pursuant to 5 U.S.C. 552b and 41 CFR 102-3.140 through 102-3.165, and the availability of space, this meeting is open to the public. Seating is on a first-come basis. Appropriate government issued identification will be required to enter the meeting facility, which is a U.S. Military managed facility.

8. Committee's Point of Contact: Mr. Jim Jarrard, telephone (703) 588-3121, 4040 North Fairfax Drive, Arlington, VA 22203, e-mail: james.jarrard@hq.dodea.edu.

SUPPLEMENTARY INFORMATION: Pursuant to 41 CFR 102-3.105(j) and 102-3.140 and section 10(a)(3) of the Federal Advisory Committee Act of 1972, the public or interested organizations may submit written statements to the Advisory Council on Dependents' Education about its mission and functions. Written statements may be submitted at any time or in response to the stated agenda of the planned meeting of the Advisory Council on Dependents' Education.

All written statements shall be submitted to the Designated Federal Officer for the Advisory Council on Dependents' Education and this individual will ensure that the written statements are provided to the membership for their consideration. For the next meeting of the Advisory Council on Dependents' Education, Mr. Jim Jarrard, telephone (703) 588-3121, 4040 North Fairfax Drive, Arlington, VA 22203; e-mail: james.jarrard@hq.dodea.edu, will be acting in the capacity of the Designated Federal Officer for this committee.

Statements being submitted in response to the agenda mentioned in this notice must be received by the Designated Federal Officer at the address listed above at least fourteen calendar days prior to the meeting which is the subject of this notice. Written statements received after this date may not be provided to or considered by the Advisory Council on Dependents' Education until its next meeting.

The Designated Federal Officer will review all timely submissions with the Advisory Council on Dependents' Education Chairpersons and ensure they are provided to all members of the Advisory Council on Dependents' Education before the meeting that is the subject of this notice.

Oral Statements by the Public to the Membership: Pursuant to 41 CFR 102-3.140(d), time will be allotted for public comments to the Advisory Council on Dependents' Education. Individual comments will be limited to a maximum of five minutes duration. The total time allotted for public comments will not exceed thirty minutes.

FOR FURTHER INFORMATION CONTACT: Mr. Jim Jarrard, telephone (703) 588-3121, or e-mail: james.jarrard@hq.dodea.edu.

Dated: March 17, 2008.
L.M. Bynum,
Alternate OSD Federal Register Liaison Officer, Department of Defense.

[FR Doc. E8-5739 Filed 3-20-08; 8:45 am]

BILLING CODE 5001-06-P